DEPARTMENT OF HEALTH AND HUMAN SERVICES

National Institutes of Health

Proposed Collection; 60-day Comment Request; Office of Minority Health Research Coordination Research Training and Mentor Program Applications

SUMMARY: In compliance with the requirement of Section 3506(c)(2)(A) of the Paperwork Reduction Act of 1995, for opportunity for public comment on proposed data collection projects, the National Institute of Diabetes and Digestive and Kidney Diseases (NIDDK), National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

DATES: Comment Due Date: Comments regarding this information collection are best assured of having their full effect if received within 60 days of the date of this publication.

FOR FURTHER INFORMATION CONTACT: To Submit Comments and for Further Information: To obtain a copy of the data collection plans and instruments, submit comments in writing, or request more information on the proposed project, contact: Winnie Martinez, Project Officer, 6707 Democracy Blvd., Bethesda, MD, 20892 or call non-toll-free number (301) 435-2988 or Email your request, including your address to: Winnie.Martinez@nih.gov. Formal requests for additional plans and instruments must be requested in writing.

SUPPLEMENTARY INFORMATION: Proposed Collection: Office of Minority Health Research Coordination Training and Mentor Programs Applications, 0925-NEW, Existing collection in use without OMB control number, National Institute of Diabetes and Digestive and Kidney Diseases (NIDDK), National Institutes of Health (NIH).

Need and Use of Information Collection: In 2000, the National Institute of Diabetes and Digestive and Kidney Diseases (NIDDK) of the National Institutes of Health (NIH) established the Office of Minority Health Research Coordination (OMHRC) to address the burden of diseases and disorders that disproportionately impact the health of minority populations. One of the major goals of the office is to build and sustain a pipeline of researchers from underrepresented populations in the biomedical, behavioral, clinical, and social sciences, with a focus on NIDDK mission areas. The office accomplishes this goal by administering a variety of programs and initiatives to recruit high school through post-doctoral educational level individuals into OMHRC research training and mentor programs: The Short-Term Research Experience for Underrepresented Persons (STEP-UP), the Diversity Summer Research Training Program (DSRTP) for Undergraduate Students, the NIH/NMA Program on Careers in Academic Medicine and the Network of Minority Health Research Investigators (NMRI). Identification of participants to matriculate into the program and initiatives comes from applications and related forms hosted through the NIDDK Web site. The proposed information collection activity is necessary in order to determine the eligibility and quality of potential awardees for traineeship in these programs.

OMB approval is requested for 3 years. There are no costs to respondents other than their time. The total estimated annualized burden hours are 3,989.

Estimated Annualized Burden Hours
Type of form | Number of respondents | Number of responses per respondent | Average burden per response (in hours) | Total annual burden hour
Short-Term Research Experience for Underrepresented Persons (STEP-UP) | 2,000 | 1 | 45/60 | 1,500
STEP-UP Mentor Training Form (SMTF) | 200 | 1 | 15/60 | 50
Reference Recommendation form STEP-UP, DSRTP | 6000 | 1 | 10/60 | 1000
Survey—STEP-UP Feedback Form | 200 | 1 | 30/60 | 100
Survey—Mentor Feedback Form | 200 | 1 | 15/60 | 50
Diversity Summer Research Training Program (DSRTP) | 100 | 1 | 45/60 | 75
Survey—DSRTP Feedback Form | 20 | 1 | 30/60 | 10
Network of Minority Health Research Investigators (NMRI) Criteria Form | 200 | 1 | 15/60 | 50
Survey—NMRI Feedback Form | 1000 | 1 | 30/60 | 500
Survey—NMRI Mentor Form | 1000 | 1 | 30/60 | 500
NMRI Questionnaire | 200 | 1 | 20/60 | 67
NIH/NMA Fellows Program on Careers in Academic Medicine (NIH/NMA) | 200 | 1 | 20/60 | 67
Survey—NIH/NMA Feedback Form | 40 | 1 | 30/60 | 20

Dated: September 5, 2014.
Frank Holloman,
NIDDK Project Clearance Liaison, Office of Management Policy Analysis, National Institute of Diabetes and Digestive and Kidney Diseases, NIH.

[FR Doc. 2014-22869 Filed 9-24-14; 8:45 am]

BILLING CODE 4140-01-P